CONSUMER PRODUCT SAFETY COMMISSION

[Docket No. CPSC-2012-0048]

Request for Information Regarding Passenger Use of ATVs

AGENCY: U.S. Consumer Product Safety Commission.

ACTION: Notice.

SUMMARY: The Consumer Product Safety Commission (CPSC or Commission) is issuing a notice seeking information from the public on the prevalence of carrying passengers on all-terrain vehicles (ATVs) and the feasibility of a performance requirement that would prevent passengers from being carried on ATVs.

DATES: Written comments must be submitted by November 24, 2014.

ADDRESSES: You may submit comments, identified by Docket No. CPSC-2012-0048 by any of the following methods:

Electronic Submissions: Submit electronic comments in the following way:

Federal eRulemaking Portal: http://www.regulations.gov. Follow the instructions for submitting comments. To ensure timely processing of comments, the Commission is no longer accepting comments submitted by electronic mail (email) except through http://www.regulations.gov.

Written Submissions: Submit written submissions in the following way:

Mail/Hand delivery/Courier (for paper, disk, or CD-ROM submissions) preferably in five copies, to: Office of the Secretary, U.S. Consumer Product Safety Commission, Room 820, 4330 East West Highway, Bethesda, MD 20814; telephone (301) 504-7923.

Instructions: All submissions received must include the agency name and docket number for this notice. All comments received may be posted without change to http://www.regulations.gov, including any personal information provided. Do not submit confidential business information, trade secret information, or other sensitive or protected information (such as a Social Security Number) electronically; if furnished at all, such information should be submitted in writing.

Docket: For access to the docket to read background documents or comments received, go to http://www.regulations.gov.

FOR FURTHER INFORMATION CONTACT: Hope Nesteruk, Project Manager, Directorate for Engineering Sciences, U.S. Consumer Product Safety Commission, National Product Testing and Evaluation Center, 5 Research Place, Rockville, MD 20850, 301-987-2579; email: hnesteruk@cpsc.gov.

SUPPLEMENTARY INFORMATION:

I. Introduction

Since the 1980s, the CPSC has addressed ATV safety through various activities, including rulemaking, recalls, consumer education, media outreach following fatal incidents, and litigation. Despite these activities, ATV-related fatalities continue to be one of the largest categories of consumer product-related deaths. ATV safety, therefore, remains an ongoing Commission concern. Most recently, to assess the impact of passenger use of ATVs, the Commission Fiscal Year 2014 Operating Plan tasked CPSC staff with “assessing the inclusion of a performance standard related to preventing passengers on ATVs” in the Commission's open rulemaking on ATVs. Accordingly, this request for information (RFI) seeks information from stakeholders related to passenger use of ATVs. CPSC staff will use information gathered from this RFI to assist in developing recommended courses of action for Commission consideration as to whether a performance requirement to prevent passenger use of ATVs is appropriate. Interested parties may provide information on the prevalence of passenger use and the reasons why passengers ride on ATVs; potential means of preventing passengers from being carried on ATVs not intended for that purpose; and potential impacts of these requirements on the utility of ATVs. Interested parties also may provide information on possible changes to ATV design that may prevent passenger use, and information on whether these changes could be translated into a performance standard.

II. Background

A. ATV-Related Activities Since 2006

In October 2005, the Commission published in the Federal Register an advance notice of proposed rulemaking (ANPR) for ATVs under the Consumer Product Safety Act (CPSA) and the Federal Hazardous Substances Act (FHSA). Subsequently, in August 2006, the Commission issued a notice of proposed rulemaking (NPR) that proposed:

• Informational and training requirements for four-wheeled, adult, single-rider and tandem ATVs;

• Technical performance requirements for four-wheeled, adult, single-rider and tandem ATVs;

• Technical requirements for four-wheeled, youth ATVs; and

• A ban of three-wheeled ATVs.

The 2006 NPR also directed staff to address eight questions concerning youth ATVs and four questions concerning ATVs generally.

Since the 2006 NPR on ATVs was issued, the U.S. Congress, the Commission, and the Specialty Vehicle Institute of America (SVIA), have all been actively involved in ATV safety efforts. For example, SVIA revised the voluntary standard twice, and CPSC staff conducted research and completed studies to respond to the Commission's questions in the NPR. Most significantly, Congress passed the Consumer Product Safety Improvement Act of 2008 (CPSIA) in August 2008. Among other things, section 232 of the CPSIA:

• Required the Commission to make mandatory the voluntary standard for ATVs, the American National Standard for Four Wheel All-Terrain Vehicles Equipment Configuration, and Performance Requirements, developed by the SVIA (ANSI/SVIA-1-2007);

• Made it unlawful for a manufacturer or distributor to import or distribute an ATV that did not comply with the mandated ATV standard and with action plans required by the CPSIA;

• Banned three-wheel ATVs until a mandatory standard is promulgated; and

• Required the Commission to issue a final rule on ATVs stemming from the 2006 NPR.

The Commission adopted the voluntary standard as a mandatory standard in a final rule on ATVs in the Federal Register on November 14, 2008 (73 FR 67385). The Commission's ATV regulation is codified at 16 CFR part 1420 (part 1420) and became effective on April 13, 2009.

In 2011, Congress directed ¹ the Commission to issue a final rule by August 12, 2012, stemming from the 2006 NPR. However, six years had passed since the NPR. Furthermore, many of the proposed requirements in the 2006 NPR were addressed by the combination of part 1420 and mandatory action plans. Taken together, these requirements addressed, in part or in whole, the majority of the safety measures that the Commission proposed in the 2006 NPR. Thus, the Commission voted to host an ATV Safety Summit to “provide stakeholders an opportunity to present their views on the outstanding issues” related to ATV safety, in addition to providing a forum for stakeholders to discuss new innovations in ATV safety. The Commission held the ATV Safety Summit on October 11 and 12, 2012, and accepted comments through November 14, 2012. A summary of these comments is available on CPSC's Web site.²

¹ Section 9 of Public Law 112-28 (August 12, 2011).

² http://cpsc.gov/PageFiles/26/Regulations,%20Laws%20Standards/Rulemaking/ATVs/Final%20ReportATVSafetySummitfinal.pdf.

Most recently, the Commission's Fiscal Year 2014 Operating Plan directed staff to perform six activities, as resources permit, in preparation for a draft NPR on ATVs. The six activities:

1. Consulting with the National Highway Traffic Safety Administration regarding the categorization of youth ATVs, as well as the establishment of additional safety standards for ATVs.

2. Assessing the inclusion in the NPR of a performance standard related to preventing passengers on ATVs.

3. Contracting for further testing of a child-resistant ATV ignition prototype device.

4. Conducting a literature review and develop a testing strategy to evaluate steering and stability issues related to ATVs.

5. Conducting a literature review and analysis regarding roll-over protection systems for ATVs.

6. Conducting an ATV off-road exposure survey (the first year of a 3-year effort).

CPSC staff now seeks input from stakeholders related to item 2. Specifically, staff seeks information on the prevalence of passengers riding on ATVs and the feasibility of establishing a performance requirement that would prevent or reduce the likelihood of passengers riding on an ATV. For example, a performance requirement could prevent an ATV from being able to carry a passenger on a seat or cargo rack. Note, however, that any law or regulation aimed at changing consumer use of ATVs, such as a law to prohibit ATV use by passengers, would need to be addressed at the state level.

B. CPSC Staff Activities Related to ATV Passenger Use ATV-Related Activities Since 2006

In the 2014 fiscal year, CPSC staff conducted a pilot study analyzing several characteristics of passenger-involved fatality incidents for presentation to the Commission. By analyzing ATV fatality data, staff's pilot study was intended to determine: (1) If specific passenger locations on the ATV are associated with more fatal incidents; and (2) if and how passengers affect ATV-related fatal incidents. The pilot study was intended to assist the Commission in deciding whether to devote additional resources to the development of a performance standard for passenger use of ATVs.

To date, CPSC staff's review of incident reports and other studies demonstrates that passengers ride in various locations on the ATV, e.g., cargo rack and seat, and in front of and behind the operator. CPSC staff's special study on ATV-related deaths and emergency department-treated injuries ³ shows that passengers comprise about 25 percent of injured victims. From 2005 through 2007, about 25 percent of fatalities involved ATVs with multiple riders; however, a passenger was the victim in slightly less than half of those fatalities with multiple riders, meaning that about 10 percent of fatalities are to a passenger of an ATV. In addition, the recent pilot study of ATV-related fatalities ⁴ found that of 502 reported incidents with more than one rider on the ATV, more than 80 percent involved two riders: a driver and a passenger. Of those, about half involved both riders on the seat of the ATV,⁵ and the driver was more likely to be fatally injured than the passenger. Around 10 percent of passenger-related fatal incidents involved more than two riders (i.e., a driver and two or more passengers). When two or more passengers were involved, a passenger was more likely to be fatally injured.

³ http://www.cpsc.gov//Global/Research-and-Statistics/Injury-Statistics/Sports-and-Recreation/ATVs/ATVSpecialStudyReport.pdf.

⁴ http://www.cpsc.gov//Global/Research-and-Statistics/Injury-Statistics/Sports-and-Recreation/ATVs/ATVPassengerPilotStudyReport.pdf.

⁵ A large number of reported incidents did not have enough information available to determine exactly where the passenger was in relation to the driver.

III. Information Requested

This RFI is intended to supplement staff's pilot study to gather information from the public on the prevalence of carrying passengers on ATVs and the feasibility of a performance requirement that would prevent passengers from being carried on ATVs. CPSC staff's data analysis can only quantify passenger location in fatal incidents. Staff's data do not provide information on passenger location during normal, non-incident use. In addition, CPSC data contain little information about aftermarket use of passenger seats or information about the need of ATV drivers to carry passengers. Accordingly, CPSC staff seeks data and information concerning three main topic areas: (1) The prevalence of passengers riding ATVs; (2) the purchase and use of aftermarket seats; and (3) the feasibility of a performance standard that would reduce or eliminate carrying passengers on ATVs. Commenters are encouraged to answer as few or as many of the following questions as they wish.

A. Prevalence of Passenger Riding

• What, if any, data are available regarding the location of ATV passengers when riding? That is, where are passengers sitting or standing when riding ATVs? CPSC's data are limited to information related to injury and fatality incidents but does not provide information regarding ATV use when an incident does not occur.

• What, if any, data are available regarding the frequency and duration of passengers riding on ATVs that are not intended to carry more than one rider? Is the frequency and duration of passengers riding on ATVs associated with the type of ATV use, e.g., trail riding, versus utility use, versus hunting use? What, if any, data are available regarding the frequency and duration of drivers alone riding on ATVs that are not intended to carry more than one rider?

• What, if any, data are available regarding why ATV drivers carry passengers and the reasons passengers ride ATVs?

• What, if any, data are available regarding user demand for two-rider ATVs, also called Tandem, 2-Up, or Type II ATVs?

• Other than the data from CPSC sources, (e.g., reports and databases), what, if any, data are available regarding injury or risk of injury associated with passenger use of ATVs on single-rider versus tandem ATVs? This includes, but is not limited to, data about the mechanism of driver and passenger injuries, the disposition of drivers and passengers, interactions between the driver and passenger in incidents, weight of driver and passengers, helmet use of drivers and passengers, age/gender of the driver and passengers, and sequence of events in incidents with passengers.

B. Aftermarket Seats

Aftermarket seats generally attach to cargo racks and are generally marketed as being intended for use when the ATV is not moving.

• What, if any, data are available regarding use of aftermarket seats by passengers when the ATV is moving?

• What, if any, data are available regarding injury or risk of injury associated with the use of aftermarket seats?

C. Feasibility

• Can design modifications be made to ATVs to prevent passengers?

• If design modifications are feasible, please describe possible design changes that could prevent passengers. How could such modifications affect the usability or utility of the ATV? Although CPSC cannot mandate a specific design, information regarding proof-of-concept designs can inform decision making regarding the feasibility of a performance requirement.

• Would it be feasible to establish a performance standard that would prevent consumers from carrying passengers or installing aftermarket seats capable of carrying passengers without significantly adversely affecting the usability or utility of the ATV for purposes other than carrying passengers?

• How would a performance requirement to prevent passenger use of ATVs affect two-rider ATVs, also called Tandem, 2-Up, or Type II ATVs? Should such a requirement apply to two-rider ATVs?

Dated: September 18, 2014.
Todd A. Stevenson,
Secretary, Consumer Product Safety Commission.

[FR Doc. 2014-22556 Filed 9-22-14; 8:45 am]

BILLING CODE 6355-01-P